DEPARTMENT OF ENERGY

Federal Energy Regulatory Commission

[Project No. 5362-000]

Kennebunk Light and Power District; Notice of Existing Licensee's Notice of Intent To Not File a Subsequent License Application, and Soliciting Pre-Application Documents and Notices of Intent To File a License Application

At least five years before the expiration of a license for a minor water power project not subject to sections 14 and 15 of the Federal Power Act (i.e., a project having an installed capacity of 1.5 megawatts or less), the licensee must file with the Commission a letter that contains an unequivocal statement of the licensee's intent to file or not to file an application for a subsequent license.¹

¹ 18 CFR 16.19(b) (2016) (citing 18 CFR 16.6(b)). Section 16.19(b) applies to licenses not subject to Parts 14 and 15 of the Federal Power Act.

If such a licensee informs the Commission that it does not intend to file an application for a subsequent license, nonpower license, or exemption for the project, the licensee may not file an application for a subsequent license, nonpower license, or exemption for the project, either individually or in conjunction with an entity or entities that are not currently licensees of the project.²

² 18 CFR 16.24(b)(1) (2016).

On March 29, 2017, Kennebunk Light and Power District (Kennebunk Light), the existing licensee for the Lower Mousam Project No. 5362, filed notice of its intent to not file an application for a subsequent license. Therefore, pursuant to section 16.24(b)(1) of the Commission's regulations, Kennebunk Light may not file an application for a subsequent license for the project, either individually or in conjunction with an entity or entities that are not currently licensees of the project.

The 600-kilowatt (kW) Lower Mousam Project is located on the Mousam River, in York County, Maine. No federal lands are affected. The existing minor license for the project expires on March 31, 2022.

The project consists of the following three developments:

Dane Perkins Development

The Dane Perkins Development consists of: (1) a 12-foot-high, 83-foot-long concrete gravity dam with a 50-foot-long spillway section that has a crest elevation of 81.8 feet mean sea level (msl) and 2.5-foot-high flashboards; (2) a 25-acre impoundment with a normal maximum elevation of 84.3 feet msl; (3) a powerhouse containing a single turbine-generator unit rated at 150 kW; (4) a generator lead connecting the turbine-generator unit to the regional grid; and (5) appurtenant facilities.

Twine Mill Development

The Twine Mill Development is located approximately 0.5 miles downstream from the Dane Perkins Development and consists of: (1) an 18-foot-high, 223-foot-long concrete gravity dam with an 81-foot-long spillway section that has a crest elevation of 68.8 feet msl and 3.0-foot-high flashboards; (2) a 12-acre impoundment with a normal maximum elevation of 71.8 feet msl; (3) a powerhouse containing a single turbine-generator unit rated at 300 kW; (4) a generator lead connecting the turbine-generator unit to the regional grid; and (5) appurtenant facilities.

Kesslen Development

The Kesslen Development is located approximately 2.5 miles downstream from the Twine Mill Development and consists of: (1) an 18-foot-high, 140-foot-long concrete gravity dam with a 114-foot-long spillway section that has a crest elevation of 42.2 feet msl and 1.5-foot-high flashboards; (2) a 20-acre impoundment with a normal maximum elevation of 43.7 feet msl; (3) a powerhouse containing a single turbine-generator unit rated at 150 kW; (4) a generator lead connecting the turbine-generator unit to the regional grid; and (5) appurtenant facilities.

Any party interested in filing a license application (i.e., potential applicant) for the Lower Mousam Project No. 5362 must file a Notice of Intent (NOI) ³ and pre-application document (PAD).⁴ Additionally, while the integrated licensing process (ILP) is the default process for preparing an application for a subsequent license, a potential applicant may request to use alternative licensing procedures when it files its NOI.⁵

³ 18 CFR 5.5 (2016).

⁴ 18 CFR 5.6 (2016).

⁵ 18 CFR 5.3(b) (2016).

The deadline for potential applicants, other than the existing licensee, to file NOIs, PADs, and requests to use an alternative licensing process is 120 days from the issuance date of this notice.

Applications for a subsequent license from potential applicants, other than the existing licensee, must be filed with the Commission at least 24 months prior to the expiration of the existing license.⁶ Because the existing license expires on March 31, 2022, applications for license for this project must be filed by March 31, 2020.⁷

⁶ 18 CFR 16.20 (2016).

⁷ To the extent an interested applicant files an NOI and PAD and elects or is required to use the Commission's ILP, a process plan will be issued within 180 days of this notice, which accelerates the steps of the ILP to allow for filing a subsequent license application by the March 31, 2020, deadline.

Questions concerning this notice should be directed to Michael Watts (202) 502-6123 or michael.watts@ferc.gov.

Dated: May 15, 2017.
Kimberly D. Bose,
Secretary.

[FR Doc. 2017-10370 Filed 5-19-17; 8:45 am]

BILLING CODE 6717-01-P